DEPARTMENT OF TRANSPORTATION

Federal Aviation Administration

14 CFR Part 39

[Docket No. FAA-2022-1157; Project Identifier MCAI-2022-01093-R; Amendment 39-22177; AD 2022-19-08]

RIN 2120-AA64

Airworthiness Directives; Airbus Helicopters

AGENCY: Federal Aviation Administration (FAA), DOT.

ACTION: Final rule; request for comments.

SUMMARY: The FAA is adopting a new airworthiness directive (AD) for Airbus Helicopters Model SA341G and SA342J helicopters. This AD was prompted by a report of manufacturing defects on multiple tail rotor blades (TRBs). This AD requires visually inspecting certain part-numbered TRBs for the presence of a linear indication; and depending on the inspection results, fluorescent penetrant inspecting the TRB and further corrective actions if necessary. This AD also prohibits installing an affected TRB unless certain requirements have been met, as specified in a European Union Aviation Safety Agency (EASA) AD, which is incorporated by reference. The FAA is issuing this AD to address the unsafe condition on these products.

DATES: This AD becomes effective October 3, 2022.

The Director of the Federal Register approved the incorporation by reference of a certain publication listed in this AD as of October 3, 2022.

The FAA must receive comments on this AD by October 31, 2022.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material that is incorporated by reference (IBR) in this final rule, contact EASA, Konrad-Adenauer-Ufer 3, 50668 Cologne, Germany; telephone +49 221 8999 000; email ADs@easa.europa.eu; internet easa.europa.eu. You may find this IBR material on the EASA website at ad.easa.europa.eu. For Airbus Helicopters service information identified in this final rule, contact Airbus Helicopters, 2701 North Forum Drive, Grand Prairie, TX 75052; telephone (972) 641-0000 or (800) 232-0323; fax (972) 641-3775; or at airbus.com/helicopters/services/technical-support.html. You may view this material at the FAA, Office of the Regional Counsel, Southwest Region, 10101 Hillwood Pkwy., Room 6N-321, Fort Worth, TX 76177. For information on the availability of this material at the FAA, call (817) 222-5110. It is also available in the AD docket at regulations.gov by searching for and locating Docket No. FAA-2022-1157.

Examining the AD Docket

You may examine the AD docket at regulations.gov by searching for and locating Docket No. FAA-2022-1157; or in person at Docket Operations between 9 a.m. and 5 p.m., Monday through Friday, except Federal holidays. The AD docket contains this final rule, the EASA AD, any comments received, and other information. The street address for Docket Operations is listed above. Comments will be available in the AD docket shortly after receipt.

FOR FURTHER INFORMATION CONTACT: Dan McCully, Program Manager, COS Program Management Section, Operational Safety Branch, Compliance & Airworthiness Division, FAA, 1701 Columbia Ave., Mail Stop: ACO, College Park, GA 30337; telephone (404) 474-5548; email william.mccully@faa.gov.

SUPPLEMENTARY INFORMATION:

Background

EASA, which is the Technical Agent for the Member States of the European Union, has issued EASA Emergency AD 2022-0169-E, dated August 12, 2022 (EASA AD 2022-0169-E), to correct an unsafe condition for Airbus Helicopters, formerly Eurocopter, Eurocopter France, Aerospatiale, Sud Aviation, Model SA 341 G and SA 342 J (Gazelle) helicopters, all serial numbers.

This AD was prompted by a report of manufacturing defects on multiple TRBs. EASA advises that an additional sample of TRBs from different manufacturing batches were visually inspected and further analysis revealed visual linear indications on approximately 75% of the TRBs inspected. EASA further advises that the visual linear indications were positioned at the aerofoil connection radius and perpendicular to the grain flow direction. EASA advises that follow-up dye penetrant inspections confirmed up to 20% of the TRBs were found to be affected and have a high risk for crack propagation.

Additionally, EASA advises that the investigation of the root cause of the unsafe condition is still on-going; therefore EASA considers EASA AD 2022-0169-E an immediate protective measure and states that further action may follow. The FAA is issuing this AD to detect linear indications on a TRB, which could result in an in-flight TRB loss, unbalance or damage to the tail or other parts of the helicopter, and subsequent loss of control of the helicopter. See EASA AD 2022-0169-E for additional background information.

Related Service Information Under 1 CFR Part 51

EASA AD 2022-0169-E requires, before any cleaning of the TRB, using a lamp (1000 lux) to visually check (inspect) the root area of each affected TRB for the presence of any linear indication; and cleaning certain areas of each TRB and repeating the visual check (inspection) of the TRB for a linear indication. Depending on the inspection results, EASA AD 2022-0169-E requires performing a (fluorescent) dye penetrant inspection of the root area of a TRB, and if a linear indication is detected, replacing the affected TRB with a serviceable part. EASA AD 2022-0169-E also requires, if the number of flight hours accumulated on an affected part is unknown, before next flight, replacing the affected part with a serviceable part. EASA AD 2022-0169-E allows for a one-time ferry flight for an affected helicopter, in order to be moved to a location where the (fluorescent) dye penetrant inspection and/or the TRB replacement(s) can be performed, as long as there are no passengers onboard. Lastly, EASA AD 2022-0169-E prohibits installing an affected TRB on any helicopter unless certain requirements have been met.

This material is reasonably available because the interested parties have access to it through their normal course of business or by the means identified in the ADDRESSES section.

Other Related Service Information

The FAA also reviewed Airbus Helicopters Emergency Alert Service Bulletin (EASB) No. SA341-65.71 for Model SA341G helicopters and non FAA-type certificated military Model SA341B, C, D, E, F, and H helicopters; and EASB No. SA342-65.71 for Model SA342J helicopters and non FAA-type certified military Model SA342 K, L, L1, M, M1, and MA helicopters, each Revision 0 and dated August 4, 2022 (co-published as one document). This service information specifies procedures for visually checking (inspecting) the TRB for presence of a linear indication; cleaning the TRB with a lint free rag and solvent and repeating the visual check (inspection); performing a (fluorescent) dye penetrant inspection if a linear indication is detected; removing and replacing any affected TRB if necessary; and recording compliance with the service information.

FAA's Determination

These helicopters have been approved by EASA and are approved for operation in the United States. Pursuant to the FAA's bilateral agreement with European Union, EASA, its technical representative, has notified the FAA of the unsafe condition described in its emergency AD. The FAA is issuing this AD after evaluating all pertinent information and determining that the unsafe condition exists and is likely to exist or develop on other helicopters of these same type designs.

Requirements of This AD

This AD requires accomplishing the actions specified in EASA AD 2022-0169-E, described previously, as IBRed, except for any differences identified as exceptions in the regulatory text of this AD and except as discussed under “Differences Between this AD and the EASA AD.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2022-0169-E is IBRed in this FAA final rule. This AD, therefore, requires compliance with EASA AD 2022-0169-E in its entirety through that incorporation, except for any differences identified as exceptions in the regulatory text of this AD. Using common terms that are the same as the heading of a particular section in EASA AD 2022-0169-E does not mean that operators need comply only with that section. For example, where the AD requirement refers to “all required actions and compliance times,” compliance with this AD requirement is not limited to the section titled “Required Action(s) and Compliance Time(s)” in EASA AD 2022-0169-E. Service information referenced in EASA AD 2022-0169-E for compliance will be available at regulations.gov by searching for and locating Docket No. FAA-2022-1157 after this final rule is published.

Differences Between This AD and the EASA AD

EASA AD 2022-0169-E requires accomplishing a visual check of the root area of each affected part, whereas this AD requires accomplishing a visual inspection of the root area of each affected part. Although EASA AD 2022-0169-E does not define the phrase “a linear indication,” service information referenced in EASA AD 2022-0169-E defines this phrase as an indication for which the longest dimension is at least three times longer than the smallest one. This AD defines a linear indication as any linear indication perpendicular to the fiber direction of the blade that is detected regardless of size. Where EASA AD 2022-0169-E requires performing a dye penetrant inspection, this AD requires a fluorescent penetrant inspection (FPI) performed by a Level II or Level III inspector certified in the FAA-acceptable standards for nondestructive inspection personnel. Paragraph (5) of EASA AD 2022-0169-E allows a ferry flight to operate the helicopter to a location where the dye penetrant inspection can be performed or where an affected part can be replaced as long as no passengers are onboard, whereas this AD does not allow compliance with paragraph (5) of EASA AD 2022-0169-E; instead for this AD, a special flight permit may be issued to operate the helicopter to a location where the visual inspection or FPI can be performed, provided no passengers are onboard. This AD prohibits special flight permits if a linear indication has been detected by an FPI or a visible crack has been detected on a TRB.

Interim Action

The FAA considers this AD interim action. If final action is later identified, the FAA might consider further rulemaking.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the affected part is critical to the control of a helicopter. In addition, failure of an affected part can cause the part to depart from the helicopter, thereby causing damage to the helicopter and subsequent loss of control of the helicopter. Also, the FAA has no information pertaining to how quickly the condition may propagate to failure. Investigation is still on-going to determine the root cause of the defect and the number of parts affected by the same condition. In light of this, the initial visual inspection must be accomplished before further flight. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2022-1157; Project Identifier MCAI-2022-01093-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Dan McCully, Program Manager, COS Program Management Section, Operational Safety Branch, Compliance & Airworthiness Division, FAA, 1701 Columbia Ave., Mail Stop: ACO, College Park, GA 30337; telephone (404) 474-5548; email william.mccully@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 22 helicopters of U.S. Registry. There may be up to 13 affected TRBs per helicopter. Labor rates are estimated at $85 per work-hour. Based on these numbers, the FAA estimates the following costs to comply with this AD.

Visually inspecting one TRB for presence of a linear indication takes about 1 work-hour for an estimated cost of $85 per inspection. Visually inspecting each additional TRB takes about 0.1 work-hour for an estimated cost of $9 per inspection. The cost for inspecting each helicopter may be up to $193 and the cost for the U.S. fleet may be up to $4,246.

If required, fluorescent penetrant inspecting a TRB for the presence of a linear indication takes about 2 work-hours for an estimated cost of $170 per inspection.

If required, removing an affected TRB and replacing it with a serviceable TRB takes about 2 work-hours and parts cost about $3,630 for an estimated cost of $3,800 per replacement. Removing each additional affected TRB and replacing it with a serviceable TRB takes about an additional 0.5 work-hour and parts cost about $3,630 for an estimated cost of $3,673 for each additional replacement.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-19-08 Airbus Helicopters: Amendment 39-22177; Docket No. FAA-2022-1157; Project Identifier MCAI-2022-01093-R.

(a) Effective Date

This airworthiness directive (AD) is effective October 3, 2022.

(b) Affected ADs

None.

(c) Applicability

This AD applies to all Airbus Helicopters Model SA341G and SA342J helicopters, certificated in any category.

(d) Subject

Joint Aircraft System Component (JASC) Code: 6410, Tail Rotor Blades.

(e) Unsafe Condition

This AD was prompted by a report of manufacturing defects on multiple tail rotor blades (TRBs). The FAA is issuing this AD to detect linear indications on a TRB. The unsafe condition, if not addressed, could result in an in-flight TRB loss, unbalance or damage to the tail or other parts of the helicopter, and subsequent loss of control of the helicopter.

(f) Compliance

Comply with this AD within the compliance times specified, unless already done.

(g) Requirements

Except as specified in paragraphs (h) and (i) of this AD: Comply with all required actions and compliance times specified in, and in accordance with, European Union Aviation Safety Agency Emergency AD 2022-0169-E, dated August 12, 2022 (EASA AD 2022-0169-E).

(h) Exceptions to EASA AD 2022-0169-E

(1) Where EASA AD 2022-0169-E requires compliance in terms of flight hours, this AD requires using hours time-in-service.

(2) Where EASA AD 2022-0169-E refers to its effective date, this AD requires using the effective date of this AD.

(3) Where paragraph (1) of EASA AD 2022-0169-E states to “accomplish a visual check of the root area of each affected part,” for this AD, replace that text with “accomplish a visual inspection of the root area of each affected part.”

(4) Where paragraph (2) of EASA AD 2022-0169-E states, “linear indication,” for the purposes of this AD, a linear indication is any linear indication perpendicular to the fiber direction of the blade that is detected regardless of size.

(5) Where paragraph (2) of EASA AD 2022-0169-E states to “accomplish a dye penetrant inspection of the root area of each discrepant part in accordance with the instructions of the ASB,” for this AD replace that text with “perform a fluorescent penetrant inspection (FPI) of the root area of each affected part that has any linear indication (perpendicular to the fiber direction of the blade and regardless of size), in accordance with the Accomplishment Instructions, paragraph 3.B.3. of the ASB. This FPI must be accomplished by a Level II or Level III inspector certified in the FAA-acceptable standards for nondestructive inspection personnel.”

Note 1 to paragraph (h)(5): Advisory Circular 65-31B contains examples of FAA-acceptable Level II and Level III qualification standards criteria for inspection personnel doing nondestructive test inspections.

(6) This AD does not mandate paragraph (3) of EASA AD 2022-0169-E; instead, for this AD, if as a result of the action required by paragraph (2) of EASA AD 2022-0169-E, there is any linear indication (perpendicular to the fiber direction of the blade and regardless of size), before further flight, remove the affected TRB from service and replace it with a serviceable part as defined in EASA AD 2022-0169-E.

(7) This AD does not allow paragraph (5) of EASA AD 2022-0169-E, instead for this AD use paragraph (j) of this AD.

(8) Where the service information referenced in EASA AD 2022-0169-E specifies to discard the TRB if a linear indication is detected, this AD requires before further flight, removing that part from service.

(9) Where the service information referenced in EASA AD 2022-0169-E specifies to use tooling, this AD allows the use of equivalent tooling.

(10) This AD does not mandate compliance with the “Remarks” section of EASA AD 2022-0169-E.

(i) No Reporting Requirement

Although the service information referenced in EASA AD 2022-0169-E specifies to submit certain information to the manufacturer, this AD does not include that requirement.

(j) Special Flight Permit

A special flight permit may be issued in accordance with 14 CFR 21.197 and 21.199 to operate the helicopter to a location where the visual inspection or FPI can be performed, provided no passengers are onboard. Special flight permits are prohibited if a linear indication has been detected by an FPI or a visible crack has been detected on a TRB.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Dan McCully, Program Manager, COS Program Management Section, Operational Safety Branch, Compliance & Airworthiness Division, FAA, 1701 Columbia Ave., Mail Stop: ACO, College Park, GA 30337; telephone (404) 474-5548; email william.mccully@faa.gov.

(m) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) Emergency AD 2022-0169-E, dated August 12, 2022.

(ii) [Reserved]

(3) For EASA AD 2022-0169-E, contact EASA, Konrad-Adenauer-Ufer 3, 50668 Cologne, Germany; telephone +49 221 8999 000; email ADs@easa.europa.eu; internet easa.europa.eu. You may find the EASA material on the EASA website at ad.easa.europa.eu.

(4) You may view this service information at the FAA, Office of the Regional Counsel, Southwest Region, 10101 Hillwood Pkwy., Room 6N-321, Fort Worth, TX 76177. For information on the availability of this material at the FAA, call (817) 222-5110. This material may be found in the AD docket at regulations.gov by searching for and locating Docket No. FAA-2022-1157.

(5) You may view this material that is incorporated by reference at the National Archives and Records Administration (NARA). For information on the availability of this material at NARA, email fr.inspection@nara.gov, or go to: www.archives.gov/federal-register/cfr/ibr-locations.html.

Issued on September 6, 2022.
Christina Underwood,
Acting Director, Compliance & Airworthiness Division, Aircraft Certification Service.

[FR Doc. 2022-20152 Filed 9-14-22; 11:15 am]

BILLING CODE 4910-13-P